Proclamation 8870 of September 21, 2012

National Hunting and Fishing Day, 2012

By the President of the United States of America

A Proclamation

From our highest peaks and most historic parks to the quiet woods and streams where generations of families have connected with the land around them, America's great outdoors have always played an important role in our national life. On National Hunting and Fishing Day, we celebrate our rich legacy of conservation, recognize sportsmen and women who have carried that legacy forward, and renew the spirit of stewardship that has moved countless Americans to help preserve our natural heritage for future generations.

As keepers of an age-old tradition, sportsmen and women share a deep and abiding bond with our environment. Generations have worked tirelessly to protect the lands and waters they cherish, and today, hunters and anglers stand among our strongest conservation advocates. This year, we also mark the 75th anniversary of the Federal Aid in Wildlife Restoration Act, which provided permanent and dependable funding for habitat conservation. This milestone recalls the many ways sportsmen and women have contributed to conservation of the public lands we all enjoy. Their legacy is all around us, and as we take time to appreciate America's natural beauty, let us give thanks to all those who have helped make our country what it is today.

Fulfilling our role as environmental stewards in the 21st century demands that we find the best ideas at the grassroots level and empower States, communities, and nonprofits with the tools they need to protect the land they love. Through the America's Great Outdoors Initiative, my Administration has striven to meet those challenges and lay the foundation for a comprehensive, community-driven conservation strategy. From hunters and anglers to tribal leaders and young people, we are engaging stakeholders of all backgrounds and beliefs—and moving forward, we will continue to find new ways to make the Federal Government a better partner in preserving our environment today and tomorrow.

As Americans, each of us has an equal share in the land and an equal responsibility to protect it. On National Hunting and Fishing Day, we pay tribute to the community of sportsmen and women who have kept faith with that fundamental principle, and who will continue to help drive our environmental progress in the years to come.

NOW, THEREFORE, I, BARACK OBAMA, President of the United States of America, by virtue of the authority vested in me by the Constitution and the laws of the United States, do hereby proclaim September 22, 2012, as National Hunting and Fishing Day. I call upon all Americans to observe this day with appropriate programs and activities.

IN WITNESS WHEREOF, I have hereunto set my hand this twenty-first day of September, in the year of our Lord two thousand twelve, and of the Independence of the United States of America the two hundred and thirty-seventh.

[FR Doc. 2012-23872

Filed 9-26-12; 8:45 am]

Billing code 3295-F2-P